NUCLEAR WASTE TECHNICAL REVIEW BOARD

No Fear Act Notice

On May 15, 2002, Congress enacted the “Notification and Federal Employee Antidiscrimination and Retaliation Act of 2002,” which is now known as the No FEAR Act. One purpose of the act is to “require that Federal agencies be accountable for violations of antidiscrimination and whistleblower protection laws” (Pub. L. 107-174, Summary). In support of this objective, Congress found that “agencies cannot be run effectively if those agencies practice or tolerate discrimination,” Public Law 107-174, Title I, General Provisions, section 101(1).

The Act requires the U.S. Nuclear Waste Technical Review Board (Board) to provide this notice to Board employees, former Board employees, and applicants for Board employment to inform them of their rights and protections under Federal antidiscrimination and whistleblower protection laws.

Antidiscrimination Laws/Bases for Complaints or Grievances

The Board cannot discriminate on the basis of race, color, religion, sex, national origin, age, disability, marital status, or political affiliation against an employee or applicant for employment related to the terms, conditions, or privileges of employment. Discrimination on these bases is prohibited by one or more of the following statutes: 5 U.S.C. 2302(b)(1); 29 U.S.C. 206(d); 29 U.S.C. 631; 29 U.S.C. 633a; 29 U.S.C. 791; and 42 U.S.C. 2000e-16.

If you believe that you have been the victim of unlawful discrimination on the basis of race, color, religion, sex, national origin or disability, you must contact an Equal Employment Opportunity (EEO) counselor at General Services Administration within 45 calendar days of the alleged discriminatory action, or, in the case of a personnel action, within 45 calendar days of the effective date of the action, before filing a formal complaint of discrimination with the Board (See, e.g., 29 CFR 1614). If you believe that you have been the victim of unlawful discrimination on the basis of age, you must either (1) contact an EEO counselor as noted above or (2) give notice of intent to sue to the Equal Employment Opportunity commission (EEOC) within 180 calendar days of the alleged discriminatory action. If you are alleging discrimination bases on marital status or political affiliation, you may file a written complaint with the U.S. Office of Special Counsel (OSC) (see contact information below). As an alternative (or in some cases, in addition), you may pursue a discrimination complaint by filing a grievance through the Board's Administrative Grievance Procedure or 29 CFR part 1614, if such procedures apply and are available.

Whistleblower Protection Laws

A Board employee with authority to take, direct others to take, recommend or approve any personnel action must not use that authority to take, threaten to take, or fail to take a personnel action against an employee or applicant because of disclosure of information by that individual that is reasonably believed to evidence violations of law, rule, or regulation; gross mismanagement; gross waste of funds; an abuse of authority; or a substantial and specific danger to public health or safety; unless disclosure of such information is specifically prohibited by law and such information is specifically required by Executive Order to be kept secret in the interest of national defense or the conduct of foreign affairs.

Retaliation against an employee or applicant for making a protected disclosure is prohibited by 5 U.S.C. 2302(b)(8). If you believe that you have been the victim of whistleblower retaliation, you may file a written complaint (Form OSC-11) with the U.S. Office of Special Counsel (OSC) at 1730 M Street, NW., Suite 218, Washington, DC 20036-4505 or online through the OSC Web site at http://www.osc.gov.

Retaliation for Engaging in Protected Activity

The Board cannot retaliate against an employee or applicant because that individual exercises his or her rights under any of the Federal antidiscrimination or whistleblower protection laws listed above. If you believe that you are the victim of retaliation for engaging in protected activity, you must follow, as appropriate, the procedures described in the Antidiscrimination Laws and Whistleblower Protection Laws or, if applicable, the Board's Administrative Grievance Procedure in order to pursue any legal remedy.

Disciplinary Actions

Under existing laws, the Board retains the right, where appropriate, to discipline an employee for conduct that is inconsistent with Federal Antidiscrimination and Whistleblower Protection Laws up to and including removal. If, however, OSC has initiated an investigation under 5 U.S.C. 1214, according to 5 U.S.C. 1214(f), the Board must seek approval from the Special Counsel to discipline an employee for, among other activities, engaging in prohibited retaliation. Nothing in the No FEAR Act alters existing laws or permits the Board to take unfounded disciplinary action against a Federal employee or to violate the procedural rights of a Federal employee who has been accused of discrimination.

Additional Information

For further information regarding the No FEAR Act regulations, refer to 5 CFR part 724. Additional information regarding Federal antidiscrimination, whistleblower protection and retaliation laws can be found at the EEOC Web site at http://www.eeoc.gov and the OSC Web site at http://www.osc.gov.

Existing Rights Unchanged

Pursuant to section 205 of the No FEAR Act, neither the Act nor this notice creates, expands, or reduces any rights otherwise available to any employee, former employee, or applicant under the laws of the United States, including the provisions of law specified in 5 U.S.C. 2302(d).

Dated: November 29, 2006.
William D. Barnard,
Executive Director, U.S. Nuclear Waste Technical Review Board.

[FR Doc. 06-9514 Filed 12-4-06; 8:45 am]

BILLING CODE 6820-AM-M